FEDERAL HOUSING FINANCE BOARD

[No. 2003-N-09]

Proposed Collection; Comment Request

AGENCY: Federal Housing Finance Board.

ACTION: Notice.

SUMMARY: In accordance with the requirements of the Paperwork Reduction Act of 1995, the Federal Housing Finance Board (Finance Board) hereby gives notice that it is seeking public comments concerning a three-year extension by the Office of Management and Budget (OMB) of the information collection entitled “Federal Home Loan Bank Acquired Member Assets, Core Mission Activities, Investments and Advances.”

DATES: Interested persons may submit comments on or before February 10, 2004.

ADDRESSES: Send comments by electronic mail to comments@fhfb.gov, by facsimile to 202/408-2580, or by regular mail to the Federal Housing Finance Board, 1777 F Street, NW., Washington, DC 20006 ATTN: Public Comments.

FOR FURTHER INFORMATION CONTACT: David Roderer, Financial Analyst, Office of Supervision, by electronic mail at rodererd@fhfb.gov, by telephone at 202/408-2540, or by regular mail at the Federal Housing Finance Board, 1777 F Street, NW., Washington, DC 20006.

SUPPLEMENTARY INFORMATION:

A. Need For and Use of the Information Collection

The Finance Board has authorized the Federal Home Loan Banks (FHLBanks) to acquire mortgage loans and other assets from their members or housing associates under certain circumstances. 12 CFR part 955. The regulation refers to these assets as acquired member assets or AMA. As part of this regulatory authorization, each FHLBank that acquires residential mortgage loans must provide to the Finance Board certain loan-level data elements on a quarterly basis. While the FHLBanks provide this data directly to the Finance Board, each FHLBank initially must collect the information from the private-sector member or housing associate from which the FHLBank acquires the mortgage loan.

FHLBank members and housing associates already collect the vast majority of the data elements the Finance Board rule requires as part of their customary and usual business practices. They must collect this data in order to do business with the Federal National Mortgage Association (Fannie Mae) and the Federal Home Loan Mortgage Corporation (Freddie Mac) under regulatory requirements issued by the Department of Housing and Urban Development (HUD) and pursuant to the information collection requirements under the Home Mortgage Disclosure Act (HMDA). Thus, this information collection imposes only a minor incremental additional burden on FHLBank members and housing associates.

The primary duty of the Finance Board is to ensure that the FHLBanks operate in a safe and sound manner. 12 U.S.C. 1422a(a)(3)(A). To the extent consistent with the safety and soundness charge, the Finance Board also ensures that the FHLBanks carry out their housing finance mission. 12 U.S.C. 1422a(a)(3)(B). The Finance Board believes that the information collection is essential in order to monitor the safety and soundness of the FHLBanks. The Finance Board also believes that the information collection is necessary to monitor the extent to which the FHLBanks are fulfilling their statutory housing finance mission through their acquired member asset programs.

The OMB number for the information collection is 3069-0058. The OMB clearance for the information collection expires on February 29, 2004.

The likely respondents are institutions that sell acquired member assets to the FHLBanks.

B. Burden Estimate

The Finance Board estimates the total annual average number of respondents at 600, with 12 responses per respondent. The estimate for the average hours per response is 8 hours. The estimate for the total annual hour burden is 57,600 hours (600 respondents × 12 responses per respondent × 8 hours).

C. Comment Request

The Finance Board requests written comments on the following: (1) Whether the collection of information is necessary for the proper performance of Finance Board functions, including whether the information has practical utility; (2) the accuracy of the Finance Board's estimates of the burdens of the collection of information; (3) ways to enhance the quality, utility and clarity of the information collected; and (4) ways to minimize the burden of the collection of information on respondents, including through the use of automated collection techniques or other forms of information technology.

Dated: December 8, 2003.
By the Federal Housing Finance Board.
Donald Demitros,
Chief Information Officer.

[FR Doc. 03-30743 Filed 12-11-03; 8:45 am]

BILLING CODE 6725-01-P